DEPARTMENT OF TRANSPORTATION

Office of the Secretary

[Docket Number DOT-OST-2011-0189]

Agency Information Collection Activities: Request for Comments; Clearance of a New Information Collection; U.S. DOT Mentor Protégé Pilot Program

AGENCY: Office of the Secretary (OST), (DOT).

ACTION: Notice and request for comments.

SUMMARY: In accordance with the Paperwork Reduction Act of 1995, Public law 104-13 (44 U.S.C. 3501 et seq) this notice announces the information collection request on Mentor Protégé Pilot Program annual report form, and the Mentor Protégé Pilot Program evaluation form.

DOT's Mentor-Protégé Pilot Program enhances the capability of disadvantaged and small business owners to compete more successfully for federal procurement opportunities. The program encourages private-sector relationships and expands DOT's efforts to identify and respond to the developmental needs of small and disadvantaged businesses. The program is administered by the DOT OST Office of Small and Disadvantaged Business Utilization (OSDBU).

Purpose

In accordance with Public Law 95-507, an amendment to the Small Business Act and the Small Business Investment Act of 1953, OSDBU is responsible for the implementation and execution of the U.S. Department of Transportation (DOT) activities on behalf of small businesses, in accordance with Section 8, 15 and 31 of the Small Business Act (SBA), as amended. The Office of Small and Disadvantaged Business Utilization also administers the provisions of Title 49, of the United States Code, Section 332, the Minority Resource Center (MRC), which includes the design and carry-out programs to encourage, promote, and assist minority entrepreneurs and businesses in getting contracts, subcontracts, and projects related to those business opportunities

The U.S. Department of Transportation (DOT) is implementing a Mentor-Protégé Pilot Program that encourages agreements between large and small business prime contractors and eligible small business protégés.

Small business concerns include small disadvantaged businesses, 8(a) firms, women owned businesses, HUBZone small businesses, veteran-owned-businesses and service disabled veteran-owned small businesses. The program is also designed to improve the performance of DOT contractors and subcontractors, foster the establishment of long-term business relationships between small businesses and prime contractors, and increase the overall number of small businesses that receive DOT contract and subcontract awards.

General Policy

1. Eligible business prime contractors (not under a suspension or debarment action and not in the Excluded Parties List System (ELPS) database) approved as mentor firms may enter into agreements with eligible protégés. Mentors provide appropriate developmental assistance to enhance the capabilities of protégés to perform as contractors and/or subcontractors.

2. Eligible small business prime contractors (not under a suspension or debarment action and not in the ELPS database) capable of providing developmental assistance may act as mentors.

3. Protégés may participate in the program in pursuit of a prime contract or as subcontractors under the mentor's prime contract with the Department of Transportation.

4. Mentors and Protégés are solely responsible for finding their counterpart. Therefore, we strongly encourage firms to explore existing business relationships in an effort to establish a Mentor-Protégé relationship.

5. Mentor-Protégé agreements should be for up to 24 months.

6. The duration of this pilot program will be for two years.

Measurement of Program Success

The overall success of the Mentor-Protégé Program will be measured by the extent to which it results in:

a. An increase in the quality of the technical capabilities of the protégé firms.

b. An increase in the number, dollar value and percentage of contracts or subcontracts awarded to protégés since the date of entry into the program.

c. An increase in the number and dollar value of contract and subcontract awards to protégé firms since the time of their entry into the program.

Annual reports should be submitted by the mentor and protégé firms to the OSDBU on program progress. Only one report per agreement will be submitted for review. The OSDBU will evaluate these reports by considering the following:

1. Detailed actions taken by the mentor, to increase the participation of protégé as seller to the Federal Government.

2. Detailed actions taken by the mentor, to develop the technical capabilities of a protégé as defined in the agreement.

3. The degree to which the protégé has met the developmental objectives in the agreement.

4. The degree to which the mentor firm's participation in the Mentor-Protégé Program resulted in the protégé receiving contract(s) and subcontract(s) from private firms, DOT or any other Federal agency.

5. In addition to the annual report, mentor and protégé firms should submit an evaluation to the OSDBU at the conclusion of the mutually agreed upon program period, or the voluntary withdrawal by either party from the program, whichever comes first.

Mentor Firms

Eligibility. The mentor can be a business that has graduated from the 8(a) Business Development program, a firm in the transitional stage of the program, or a small or large business. In addition, the mentor must be able to show that it is currently eligible for Federal contracting opportunities, is not under a suspension or debarment action, and is not in the ELPS database. Mentors may have multiple protégés.

Protégé Firms

(1) Eligibility. A protégé should be:

(a) A Small Business (SB), HUBZone, Small Disadvantaged Business (SDB), Women Owned Small Business, Veteran Owned Small Business, or Service Disabled Veteran Owned Small Business

(b) Able to show that it is currently eligible for Federal contracting opportunities, is not under a suspension or debarment action, and is not in the Excluded Parties List System (ELPS) database.

(2) Protégés may have multiple mentors. Protégés participating in mentor-protégé programs in addition to the DOT program should maintain a system for preparing separate reports of mentoring activity for each agency's program.

Selection of Mentor or Protégé Firms

Mentor and protégé firms are responsible for selecting their counterpart. The mentor is encouraged to select from a broad base of Small Businesses including SB, SDB, WOSB, VOSB, SDVOSB, and HUBZone firms whose core competencies support the Department of Transportation's mission.

Mentor-Protege Agreement Process

Firms interested in becoming a mentor firm should submit copy of a signed mentor-protégé agreement for each mentor-protégé relationship to DOT OSDBU for review. This will provide OSDBU the opportunity to evaluate the nature and extent of technical and managerial support, and traditional subcontracting support involved in the mentor-protégé relationship, enabling OSDBU to provide advice and assistance to the parties.

The Mentor Protégé agreement should contain:

(1) Name, address, phone, and email of mentor and protégé firm(s) and a point of contact within both firms who will oversee the agreement.

(2) A description of the type of developmental program that will be provided by the mentor firm to the protégé firm, including a schedule for providing assistance, and criteria for evaluation of the protégé's developmental success.

(3) Program participation term .

(4) Other terms and conditions, as appropriate

(5) Procedures for the mentor's voluntary withdrawal from the program including notification of the protégé firm and the OSDBU. The Mentor should provide at least 30 days' written notice to OSDBU before withdrawing from the program.

(6) OSDBU will review a Mentor Protégé agreement no later than 30 days after receipt.

(7) Following OSDBU review, the mentor may implement the developmental assistance program.

OSDBU Review of Mentor-Protégé agreement

(1) The agreement defines the relationship between the mentor and protégé firms only. The agreement itself does not create any privity of contract between the mentor or protégé and DOT.

(2) OSDBU will review the information to ensure the mentor and protégé are both eligible for the program and provide appropriate advice and assistance to the firms concerning the agreement and its implementation.

(3) OSDBU will notify the parties if changes in the agreement are advisable in order to make the agreement meet the objectives of the mentor-protégé program. The mentor and protégé should incorporate OSDBU recommendations before implementing the agreement.

(4) Upon completion of the review, the mentor may implement the developmental assistance program.

Developmental Assistance

The forms of developmental assistance a mentor can provide to a protégé include:

• Management, financial and/or technical assistance.

• Overall business management/planning.

• Cooperation on joint venture projects.

• Rent-free use of facilities and/or equipment.

• Temporary assignment of personnel to protégé for the purpose of training.

• Any other types of mutually beneficial assistance.

Internal Controls

1. The OSDBU will oversee the program to achieve program objectives.

2. OSDBU will review and evaluate mentor-protégé agreements for practicality, and accuracy of provided information.

3. OSDBU can perform site visits where Mentor-Protégé activity is performed.

4. OSDBU will review annual reports to measure protégé progress against the established developmental assistance included in the approved agreement.

5. If OSDBU determines that the objectives of the agreement are not met, OSDBU may conclude the existing Mentor-Protégé agreements if it determines that such actions are in the best interest of the agency. The OSDBU will communicate this decision in writing, and will be sent to the mentor and protégé after approval by the Director, OSDBU or representative.

DATES: Written comments should be submitted by January 3, 2012.

FOR FURTHER INFORMATION CONTACT: Leonardo San Roman, Small Business Specialist, Procurement Assistance Division, Office of Small and Disadvantaged Business Utilization, U.S. Department of Transportation, 1200 New Jersey Ave SE., Room W56-497, Washington, DC 20590. Telephone: 1-(800) 532-1169 or (202) 366-1930, by email: mentorprotege@dot.gov. or visit our Web site at http://www.osdbu.dot.gov.

SUPPLEMENTARY INFORMATION: Title: U.S. DOT Mentor Protégé Pilot program.

OMB Control Number: This is a proposed new information collection.

Forms: Mentor Protégé pilot program annual report; and Mentor Protégé pilot program evaluation form.

Type of Review: New Information Collection.

Affected Public: Prime contractors and small businesses participating in DOT's Mentor Protégé Pilot Program.

Respondents: Approximately 20.

Frequency: One-time.

Estimated Average Burden Per Response: 1 hour.

Estimated Total Annual Burden Hours: 20 hours.

Abstract

In accordance with Public Law 95-507, an amendment to the Small Business Act and the Small Business Investment Act of 1953, OSDBU is responsible for the implementation and execution of the U. S. Department of Transportation (DOT) activities on behalf of small businesses, in accordance with Section 8, 15 and 31 of the Small Business Act (SBA), as amended. The Office of Small and Disadvantaged Business Utilization also administers the provisions of Title 49, of the United States Code, Section 332, the Minority Resource Center (MRC) which includes the design and carry out programs to encourage, promote, and assist minority entrepreneurs and businesses in getting contracts, subcontracts, and projects related to those business opportunities.

The information collected will be from prime contractors and small business owners. The information collected will be used by DOT OSDBU to determine whether or not the type of technical assistance provided to the protégé was in accordance with Mentor-Protégé agreement.

Abstract

In accordance with Public Law 95-507, an amendment to the Small Business Act and the Small Business Investment Act of 1953, OSDBU is responsible for the implementation and execution of the U. S. Department of Transportation (DOT) activities on behalf of small businesses, in accordance with Section 8, 15 and 31 of the Small Business Act (SBA), as amended. The Office of Small and Disadvantaged Business Utilization also administers the provisions of Title 49, of the United States Code, Section 332, the Minority Resource Center (MRC) which includes the design and carry out programs to encourage, promote, and assist minority entrepreneurs and businesses in getting contracts, subcontracts, and projects related to those business opportunities.

The information collected will be from prime contractors and small business owners, and it will be used by DOT OSDBU to determine Mentor-Protégé program success and recommendations to the pilot program.

Authority: 49 U.S.C. Section 332(4).

Issued in Washington, DC on October 11, 2011.
Brandon Neal,
Director, Office of Small and Disadvantaged Business Utilization.

[FR Doc. 2011-27916 Filed 10-27-11; 8:45 am]

BILLING CODE 4910-9X-P